DEPARTMENT OF TRANSPORTATION

Surface Transportation Board

[Docket No. AB 6 (Sub-No. 482X)]

BNSF Railway Company—Abandonment Exemption—in Cook County, IL

On December 21, 2012, BNSF Railway Company (BNSF) filed with the Surface Transportation Board (Board) a petition under 49 U.S.C. 10502 for exemption from the prior approval requirements of 49 U.S.C. 10903 to abandon a 2.14-mile of rail line between Station 36 + 70, north of the Chicago Sanitary and Ship Canal Bridge, and Station 149 + 87, at the end of the track near Western Avenue, in Cook County, Ill. (the Line). The Line traverses U.S. Postal Service Zip Codes 60608, 60623, and 60632. There are no stations on the Line.¹

¹ According to BNSF, Pure Asphalt Company has been the only active shipper on the Line in the past five years.

BNSF states that, based on information in its possession, the Line contains no federally granted rights-of-way. Any documentation in BNSF's possession will be made available promptly to those requesting it.

The interest of railroad employees will be protected by the conditions set forth in Oregon Short Line Railroad—Abandonment Portion Goshen Branch Between Firth & Ammon, in Bingham & Bonneville Counties, Idaho, 360 I.C.C. 91 (1979).

By issuance of this notice, the board is instituting an exemption proceeding pursuant to 49 U.S.C. 10502(b).² A final decision will be issued by April 10, 2013.

² The Board has previously denied a petition by BNSF to abandon the Line. The Burlington N. Santa Fe Ry.—Abandoment of Chicago Area Trackage in Cook County, Ill., AB 6 (Sub-No. 382X) (STB served Sept. 21, 1999).

Any offer of financial assistance (OFA) under 49 CFR 1152.27(b)(2) will be due no later than 10 days after service of a decision granting the petition for exemption. Each OFA must be accompanied by a $1,600 filing fee. See 49 CFR 1002.2(f)(25).

All interested persons should be aware that, following the abandonment of rail service and salvage of the Line, the Line may be suitable for other public use, including interim trail use. Any request for a public use condition under 49 CFR 1152.28 or for trail use/rail banking under 49 CFR 1152.29 will be due no later than January 30, 2013. Each trail use request must be accompanied by a $250 filing fee. See 49 CFR 1002.2(f)(27).

All filings in response to this notice must refer to Docket No. AB 6 (Sub-No. 482X) and must be sent to: (1) Surface Transportation Board, 395 E Street SW., Washington, DC 20423; and (2) Karl Morell, Ball Janik LLP, 655 15th Street NW., Suite 225, Washington, DC 20005. Replies to the petition are due on or before January 30, 2013.

Persons seeking further information concerning abandonment procedures may contact the Board's Office of Public Assistance, Governmental Affairs and Compliance at (202) 245-0238 or refer to the full abandonment or discontinuance regulations at 49 C.F.R. pt. 1152. Questions concerning environmental issues may be directed to the Board's Office of Environmental Analysis (OEA) at (202) 245-0305. [Assistance for the hearing impaired is available through the Federal Information Relay Service (FIRS) at 1-800-877-8339.]

An environmental assessment (EA) (or environmental impact statement (EIS), if necessary) prepared by OEA will be served upon all parties of record and upon any agencies or other persons who comment during its preparation. Other interested persons may contact OEA to obtain a copy of the EA (or EIS). EAs in these abandonment proceedings normally will be made available within 60 days of the filing of the petition. The deadline for submission of comments on the EA generally will be within 30 days of its service.

Board decisions and notices are available on our Web site at www.stb.dot.gov.

Decided: January 4, 2013.
By the Board, Rachel D. Campbell, Director, Office of Proceedings.
Jeffrey Herzig,
Clearance Clerk.

[FR Doc. 2013-00324 Filed 1-9-13; 8:45 am]

BILLING CODE 4915-01-P